ENVIRONMENTAL PROTECTION AGENCY

Agency Information Collection Activities: Submission for OMB Review; Comment Request, Stratospheric Ozone Protection, Servicing of Motor Vehicle Air Conditioners; 40 CFR Part 82, Subpart B (82.30 et seq.)

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Stratospheric Ozone Protection, Servicing of Motor Vehicle Air Conditioners, OMB Control Number 2060-0247, expiration date May 31, 2002. The ICR describes the nature of the information collection and its expected burden and cost; where appropriate, it includes the actual data collection instrument.

DATES: Comments must be submitted on or before July 10, 2002.

ADDRESSES: Send comments, referencing EPA ICR No. 1617.04 and OMB Control No. 2060-0247, to the following addresses: Susan Auby, U.S. Environmental Protection Agency, Collection Strategies Division (Mail Code 2822T), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Susan Auby at EPA by phone at (202) 566-1672, by E-mail at Auby.susan@epamail.epa.gov, or download off the Internet at http://www.epa.gov/icr and refer to EPA ICR No.1617.04. For technical questions about the ICR contact Nancy Smagin by phone at (202) 564-9126, by E-mail at smagin.nancy@epamail.epa.gov, or by mail Global at Programs Division (Mail Code 6205-J), 1200 Pennsylvania Avenue NW., Washington, DC 20460-0001.

SUPPLEMENTARY INFORMATION: Title: Stratospheric Ozone Protection, Servicing of Motor Vehicle Air Conditioners, OMB Control Number 2060-0247, EPA ICR Number 1617.04, expiration date May 31, 2002. This is a request for extension of a currently approved collection.

Abstract: In 1992, EPA developed regulations under section 609 of the Clean Air Act Amendments of 1990 (Act) for the recycling of chlorofluorocarbons in motor vehicle air conditioners. These regulations were published in 57 FR 31240, and are codified at 40 CFR part 82, subpart B.

Automotive technicians are required to be certified in the proper use of recycling equipment for servicing motor vehicle air conditioners. The Global Programs Division (GPD) requires that certification programs send full sets of their training materials to EPA for approval and that technicians provide a copy of their testing program.

The GPD requires independent laboratories to submit an application that proves their general capacity to certify equipment to meet the Society of Automotive Engineers (SAE) J standards for recycled refrigerant. An independent laboratory that is interested in testing recycling and recovery equipment must submit an application to the GPD that includes a list of testing procedures and equipment that will be used in testing.

Motor vehicle air conditioner servicers must submit to the Administrator on a one-time basis a certificate that provides the following information: The name of the equipment owner, the address of the service establishment where the equipment will be used, and the make, model, year, and serial number of the equipment. Establishments that own recover-only equipment must maintain records of the name and address of the facility that is reclaiming their refrigerant.

Any person who owns approved refrigerant recovery or recycling equipment must retain records demonstrating that all persons authorized to operate the equipment are currently certified technician. Any person who sells or distributes refrigerant that is in a container of less than 20 pounds must verify that the purchaser is a certified technician, unless the purchase of small containers is for resale only. In that case, the seller must obtain a written statement from the purchaser that the containers are for resale only, and must indicate the purchaser's name and business address. An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on December 20, 2001; no comments were received.

Burden Statement: The annual public reporting and recordkeeping burden for this collection of information is estimated to average 8 minutes per response. Burden means the total time, effort, or financial resources expended by persons to generate, maintain, retain, or disclose or provide information to, or for a Federal agency. This includes the time needed to review instructions; develop, acquire, install, and utilize technology and systems for the purposes of collecting, validating, and verifying information, processing and maintaining information, and collecting, validating, and verifying information, processing and maintaining information and, disclosing and providing information; adjust the existing ways to comply with any previously applicable instructions and requirements; train personnel to be able to respond to a collection of information; search data sources; complete and review the collection of information; and transmit or otherwise disclose the information.

Respondents/Affected Entities: New and used motor vehicle dealers, gasoline service stations, truck rental and leasing without drivers, passenger car rental, top, body, upholstery repair and paint shops, general automotive repair shops, automotive repair shops not elsewhere classified.

Estimated Number of Respondents: 24,012.

Frequency of Response: On occasion.

Estimated Total Annual Hour Burden: 6,882.

Estimated Total Annualized Non Labor Cost: $0.

Send comments on the Agency's need for this information, the accuracy of the provided burden estimates, and any suggested methods for minimizing respondent burden, including through the use of automated collection techniques to the addresses listed above. Please refer to EPA ICR No. 1617.04 and OMB Control No. 2060-0247 in any correspondence.

Dated: May 29, 2002.
Oscar Morales,
Director, Collection Strategies Division.

[FR Doc. 02-14483 Filed 6-7-02; 8:45 am]

BILLING CODE 6560-50-P